DEPARTMENT OF COMMERCE

International Trade Administration

[A-570-846]

Brake Rotors From the People's Republic of China: Final Results of Antidumping Duty Administrative and New Shipper Reviews and Partial Rescission of the 2005-2006 Administrative Review

AGENCY: Import Administration, International Trade Administration, Department of Commerce.

SUMMARY: On February 15, 2007, the Department of Commerce (“Department”) published Brake Rotors From the People's Republic of China: Preliminary Results of the 2005 2006 Administrative and New Shipper Reviews and Partial Rescission of the 2005 2006 Administrative Review, 72 FR 7405 (February 15, 2007) (“Preliminary Results”). The period of review (“POR”) is April 1, 2005, through March 31, 2006. The administrative review covers three mandatory respondents and 12 separate-rate respondents. The new shipper review covers one new shipper.

We invited interested parties to comment on our Preliminary Results. Based on our analysis of the comments received, we made certain changes to our calculations. The final dumping margins for the administrative and new shipper reviews are listed in the “Final Results of the Reviews” section, below.

EFFECTIVE DATE: August 2, 2007.

FOR FURTHER INFORMATION CONTACT: Jennifer Moats for Longkou Haimeng Machinery Co., Ltd. and Qingdao Golrich Autoparts Co., Ltd., or Frances Veith for Yantai Winhere Auto-Part Manufacturing Co., Ltd. and Qingdao Meita Automotive, AD/CVD Operations, Office 8, Import Administration, International Trade Administration, U.S. Department of Commerce, 1401 Constitution Avenue, NW, Washington, DC 20230; telephone: 202-482-5047 and 202-482-4295, respectively.

SUPPLEMENTARY INFORMATION:

Background

On February 15, 2007, the Department published the Preliminary Results of the administrative and new shipper reviews of the antidumping duty order on brake rotors from the People's Republic of China (“PRC”).

On March 6, 2007, the Department issued a letter to all interested parties granting a 28-day extension of time to submit publicly available information to value the factors of production for the final results of these reviews and postponed the briefing schedule pending the Department's release of the Shandong Huanri Group General Co., Laizhou Huanri Automobile Parts Co., Ltd, and Shandong Huanri Group Co., Ltd. (collectively, “Huanri”) verification report.

From March 20 through March 22, 2007, the Department conducted a verification of Huanri and released its verification report of Huanri on May 4, 2007.¹ On May 9, 2007, the Department issued a memorandum stating that it would revise the surrogate value for steel strap to include Indian import data from Ukraine for February and March 2006 for the final results.² See “Surrogate Value” section below. On May 10, 2007, the Department revised the deadline for submission of case and rebuttal briefs to May 21 and May 29, 2007, respectively. On May 15, 2007, in response to a request filed by the Coalition for the Preservation of American Brake Drum and Rotor Aftermarket Manufacturers (“the petitioner”), the Department extended the deadline for submission of rebuttal briefs until June 5, 2007. On May 21, 2007, the Department received case briefs from Laizhou Auto Brake Equipment Company (“LABEC”), Yantai Winhere Auto-Part Manufacturing Co., Ltd. (“Winhere”), Longkou Haimeng Machinery Co., Ltd. (“Haimeng”), Laizhou Luqi Machinery Co., Ltd. (“Luqi”), Laizhou Hongda Auto Replacement Co., Ltd. (“Hongda”), Qindgdao Meita Automotive Industry Co., Ltd. (“Meita”) (collectively, “the Trade Pacific respondents”), and the petitioner. On May 21, 2007, the Department placed the supporting documentation regarding the Department's calculation of the surrogate wage rate used in respondents' margin calculations on the record of these reviews.³ On June 5, 2007, we received rebuttal briefs from the petitioner and the Trade Pacific respondents.

¹ See Memorandum from Eugene Degnan, Senior International Trade Compliance Analyst, AD/CVD Operations, Office 8, and Paul Stolz, International Trade Compliance Analyst, AD/CVD Operations, Office 8, through Robert Bolling, Program Manager, AD/CVD Operations, Office 8 and Wendy J. Frankel, Director, AD/CVD Operations, Office 8, to the File entitled, “Antidumping Duty Administrative Review of Brake Rotors from the People's Republic of China: Verification of Section A and Quantity and Value Response of Shandong Huanri Group Co., Ltd., Laizhou Huanri Automobile Parts Co., Ltd., and Shandong Huanri Group General Co.,” dated May 4, 2007 (“Huanri Verification Report”).

² See Memorandum from Ann Fornaro, International Trade Compliance Analyst, to the File entitled, “2005-2006 Antidumping Duty Administrative and New Shipper Reviews of Brake Rotors from the People's Republic of China - Surrogate Value Change for Final Results,” dated May 9, 2007 (“Surrogate Value Change Memo”).

³ See Memorandum from Ann Fornaro, International Trade Compliance Analyst, to the File entitled, “2005-2006 Antidumping Duty Administrative Review of Brake Rotors from the People's Republic of China - Expected Wages of Selected Non-Market Economy Countries,” dated May 21, 2007.

On June 11, 2007, the Department published a notice extending the time limit for the completion of the final results of these reviews until July 31, 2007. See Brake Rotors from the People's Republic of China: Extension of Time Limit for the Final Results of the 2005-2006 Administrative and New Shipper Reviews, 72 FR 32071 (June 11, 2007).

We conducted these reviews in accordance with sections 751 and 777(i)(1) of the Tariff Act of 1930, as amended (“the Act”), and sections 19 CFR 351.213 and 19 CFR 351.221 of the agency's regulations.

Period of Review

The POR is April 1, 2005, through March 31, 2006.

Scope of the Order

The products covered by this order are brake rotors made of gray cast iron, whether finished, semifinished, or unfinished, ranging in diameter from 8 to 16 inches (20.32 to 40.64 centimeters) and in weight from 8 to 45 pounds (3.63 to 20.41 kilograms). The size parameters (weight and dimension) of the brake rotors limit their use to the following types of motor vehicles: automobiles, all-terrain vehicles, vans and recreational vehicles under “one ton and a half,” and light trucks designated as “one ton and a half.”

Finished brake rotors are those that are ready for sale and installation without any further operations. Semi-finished rotors are those on which the surface is not entirely smooth, and have undergone some drilling. Unfinished rotors are those which have undergone some grinding or turning.

These brake rotors are for motor vehicles, and do not contain in the casting a logo of an original equipment manufacturer (“OEM”) which produces vehicles sold in the United States. (e.g., General Motors, Ford, Chrysler, Honda, Toyota, Volvo). Brake rotors covered in this order are not certified by OEM producers of vehicles sold in the United States. The scope also includes composite brake rotors that are made of gray cast iron, which contain a steel plate, but otherwise meet the above criteria. Excluded from the scope of this order are brake rotors made of gray cast iron, whether finished, semifinished, or unfinished, with a diameter less than 8 inches or greater than 16 inches (less than 20.32 centimeters or greater than 40.64 centimeters) and a weight less than 8 pounds or greater than 45 pounds (less than 3.63 kilograms or greater than 20.41 kilograms).⁴

⁴ On January 17, 2007, the Department determined the brake rotors produced by Federal-Mogul and certified by the Ford Motor Company to be excluded from the scope of the order. See Memorandum from Blanche Ziv, Program Manager, AD/CVD Operations, Office 8, through Wendy J. Frankel, Office Director, AD/CVD Operations, Office 8, to Stephen J. Claeys, Deputy Assistant Secretary for Import Administration, entitled, “Scope Ruling of the Antidumping Duty Order on Brake Rotors from the People's Republic of China; Federal-Mogul Corporation,” dated January 17, 2007.

Brake rotors are currently classifiable under subheadings 8708.39.5010, 8708.39.5030, and 8708.30.5030 of the Harmonized Tariff Schedule of the United States (“HTSUS”).⁵ Although the HTSUS subheadings are provided for convenience and customs purposes, the written description of the scope of this order is dispositive.

⁵ As of January 1, 2005, the HTS classification for brake rotors (discs) changed from 8708.39.5010 to 8708.39.5030. As of January 1, 2007, the HTS classification for brake rotors (discs) changed from 8708.39.5030 to 8708.30.5030. See Harmonized Tariff Schedule of the United States (2005), available at <www.usitc.gov>. See also Memorandum from Ann Fornaro, International Trade Compliance Analyst, through Blanche Ziv, Program Manager, to the File entitled, “Brake Rotors from the People's Republic of China: Change in HTS Code for Subject Merchandise,” dated February 6, 2007.

Analysis of Comments Received

All issues raised in the case and rebuttal briefs filed by parties in these reviews are addressed in the Memorandum from Stephen J. Claeys, Deputy Assistant Secretary for Import Administration, to David M. Spooner, Assistant Secretary for Import Administration, “Issues and Decision Memorandum for the 2005-2006 Administrative and New Shipper Reviews of Brake Rotors From the People's Republic of China,” dated July 27, 2007 (“Issues and Decision Memo”), which is hereby adopted by this notice. A list of the issues that parties raised and to which we responded in the Issues and Decision Memo follows as an appendix to this notice. The Issues and Decision Memo is a public document which is on file in the Central Records Unit (“CRU”) in room B-099 of the main Department building, and is also accessible on the Web at <http://ia.ita.doc.gov/frn/>. The paper copy and electronic version of the Issues and Decision Memo are identical in content.

Verification

In the Preliminary Results, we stated that we intended to verify the information reported to the Department by Huanri in its separate-rate application.⁶ From March 20 through March 22, 2007, the Department conducted a verification of Huanri at Huanri's headquarters in Panjia Village, Laizhou, China. We used standard verification procedures, including on-site inspection of the company's facilities and examination of relevant sales and financial records to verify Section A, and quantity and value information submitted by Huanri on the record of the administrative review. The Department issued the results of the verification on May 4, 2007. For further details on the verification, see the Huanri Verification Report.

⁶ See Preliminary Results, 72 FR at 7408.

Partial Rescission of Administrative Review

In the Preliminary Results, the Department issued a notice of intent to rescind the administrative review with respect to Hongfa Machinery (Dalian) Co., Ltd. (“Hongfa”), Laizhou Wally Automobile Co., Ltd. (“Wally”), Xianghe Xumingyuan Auto Parts Co. (“Xumingyuan”), China National Automotive Industry Import & Export Corporation (“CAIEC”), Shandong Laizhou CAPCO Industry (“CAPCO”), Laizhou Luyuan Automobile Fittings Co. (“Luyuan”), and Shenyang Honbase Machinery Co., Ltd. (“Honbase”), in accordance with 19 CFR 351.213(d)(3), because we found no evidence that any of these companies made shipments of subject merchandise to the United States during the POR. See Preliminary Results, 72 FR at 7409. The Department received no comments on this issue, and we did not receive any further information since the issuance of the Preliminary Results that provides a basis for reconsideration of this determination. Therefore, the Department is rescinding this administrative review with respect to Hongfa, Wally, Xumingyuan, CAIEC, CAPCO, Luyuan, and Honbase.

Separate Rates

In our Preliminary Results, we determined that Qingdao Rotec Auto Parts Co., Ltd. (“Rotec”) and Xiangfen Hengtai Brake System Co., Ltd. (“Hengtai”) did not qualify for a separate rate and, therefore, are deemed to be included in the PRC-wide entity, and subject to the PRC-wide rate. See Preliminary Results, 72 FR at 7410. The Department received no comments on this issue, and we did not receive any further information since the issuance of the Preliminary Results that provides a basis for reconsideration of these determinations for the final results. We also determined that the three mandatory (i.e., Haimeng, Meita, and Winhere) and 12 separate-rate respondents (i.e., non-selected respondents)⁷ met the criteria for the assignment of a separate rate. Based on the results of Huanri's verification and the Department's careful consideration of comments placed on the record by parties, we have determined that Huanri is eligible for a separate rate in the final results of the administrative review. See Issues and Decision Memo at Comment 11.

⁷ The non-selected respondents are as follows: China National Industrial Machinery Import & Export Corporation (“CNIM”), LABEC, Qingdao Gren Co. (“Gren”), Zibo Luzhou Automobile Parts Co., Ltd. (“ZLAP”), Hongda, Longkou TLC Machinery Co., Ltd. (“Longkou TLC”), Zibo Golden Harvest Machinery Limited Company (“ZGOLD”), Luqi, Shenyang Yinghao Machinery Co., Longkou Jinzheng Machinery Co. (“Jinzheng”), Shanxi Zhongding Auto Parts Co., Ltd. (“SZAP”), and Huanri.

The PRC-Wide Rate and Use of Facts Otherwise Available

In the Preliminary Results, we determined that the PRC-wide entity (including Hengtai and Rotec) received copies of the Department's questionnaire but did not respond and, therefore, failed to cooperate to the best of their ability in the administrative review. See Preliminary Results, 72 FR at 7410-12. Accordingly, we determined that the use of facts otherwise available in reaching our determination is appropriate pursuant to sections 776(a)(2)(A) and (B) of the Act, and that the use of an adverse inference in selecting from the facts available is appropriate pursuant to section 776(b) of the Act. See Preliminary Results, 72 FR at 7410. In accordance with section 776(b)(1) of the Act, as adverse facts available, we assigned to the PRC-entity (including Hengtai and Rotec) the PRC-wide rate of 43.32 percent. For detailed information on the Department's corroboration of this rate, see Preliminary Results, 72 FR at 7411, and Memorandum from Ann Fornaro, International Trade Analyst, through Blanche Ziv, Program Manager, AD/CVD Enforcement Office 8, and Wendy J. Frankel, Office Director, AD/CVD Enforcement Office 8, to the File, entitled, “Corroboration of the PRC-Wide Adverse Facts-Available Rate,” dated February 9, 2007.

Changes Since the Preliminary Results

Based on our analysis of comments received from interested parties and information on the record of these reviews, we made changes to the margin calculations as noted below.

For the final results, we have corrected the calculation of freight values for Golrich's carton and steel buckle inputs by multiplying the distance from the domestic supplier to the factory by the surrogate value for truck freight, instead of adding those two values. For further details, see the Issues and Decision Memo at Comment 13, and Memorandum from Ann Fornaro, International Trade Analyst, through Blanche Ziv, Program Manager, AD/CVD Operations Office 8, to the File, entitled, “Analysis for the Final Results of the 2005-2006 New Shipper Review of the Antidumping Duty Order on Brake Rotors from the People's Republic of China: Qingdao Golrich Autoparts Co., Ltd.,” dated July 27, 2007 (“Golrich Analysis Memo”).

For further details on company-specific calculations, see the company-specific analysis memoranda.⁸

⁸ Memorandum from Jennifer Moats, Senior International Trade Analyst, through Blanche Ziv, Program Manager, AD/CVD Operations Office 8, to the File, entitled, “Analysis for the Final Results of the 2005-2006 Administrative Review of the Antidumping Duty Order on Brake Rotors from the People's Republic of China: Longkou Haimeng Machinery Co., Ltd.,” dated July 27, 2007; Memorandum from Frances Veith, International Trade Compliance Analyst, through Blanche Ziv, Program Manager, AD/CVD Operations Office 8, to the File, entitled, “Analysis for the Final Results of the 2005-2006 Antidumping Duty Administrative Review of Brake Rotors from the People's Republic of China: Qingdao Meita Automotive Industry Co., Ltd.,” dated July 27, 2007; Memorandum from Frances Veith, International Trade Compliance Analyst, through Blanche Ziv, Program Manager, AD/CVD Operations Office 8, to the File, entitled, “Analysis for the Final Results of the 2005-2006 Antidumping Duty Administrative Review of Brake Rotors from the People's Republic of China: Yantai Winhere Auto-Part Manufacturing Co., Ltd.,” dated July 27, 2007; and the Golrich Analysis Memo.

We have made certain changes to the financial ratio calculations for the final results. For further details, see the Issues and Decision Memo at Comment 3.

We determined that we inadvertently excluded Ukraine import data for February and March 2006 in the calculation of the surrogate value for steel strap in the Preliminary Results. Therefore, we recalculated the surrogate value for steel strap to include the Ukraine data for those two months for the final results.⁹ For further information on the calculation of this value, see Memorandum from Ann Fornaro, Trade Compliance Analyst, through Blanche Ziv, Program Manager, AD/CVD Operations Office 8, to the File entitled, “2005-2006 Administration and New Shipper Reviews of the Antidumping Duty Order of Brake Rotors from the People's Republic of China Surrogate Values for the Final Results,” dated July 27, 2007 (“Final Surrogate Value Memo”).

⁹ See Surrogate Value Change Memo.

We have also made changes to the surrogate values for cartons. For further details, see the Issues and Decision Memo at Comment 9 and Final Surrogate Value Memo.

Final Results of the Reviews

We determine that the following final dumping margins exist for the period April 1, 2005, through March 31, 2006:

Individually Reviewed Exporters 2005-2006 Administrative Review | Weighted-Average Percent Margin
Longkou Haimeng Machinery Co., Ltd. | 4.22
Yantai Winhere Auto-Part Manufacturing Co., Ltd. | 0.03 (de minimis)
Qingdao Meita Automotive Industry Co., Ltd. | 0.00

Separate-Rate Applicant Exporters 2005-2006 Administrative Review | Weighted-Average Percent Margin
China National Industrial Machinery I & E Co.¹⁰ | 4.22
Laizhou Auto Brake Equipment Co., Ltd. | 4.22
Qingdao Gren (Group) Co.¹¹ | 4.22
Zibo Luzhou Automobile Parts Co., Ltd. | 4.22
Laizhou Hongda Auto Replacement Parts Co., Ltd. | 4.22
Longkou TLC Machinery Co., Ltd. | 4.22
Zibo Golden Harvest Machinery Limited Company | 4.22
Laizhou City Luqi Machinery Co., Ltd. | 4.22
Shenyang Yinghao Machinery Co. | 4.22
Longkou Jinzheng Machinery Co., Ltd. | 4.22
Shanxi Zhongding Auto Parts Co., Ltd. | 4.22
Shandong Huanri Group Co., Ltd. | 4.22
¹⁰ This company is also known as China National Industrial Machinery Import & Export Corporation.
¹¹ This company is also known as Qingdao Gren Co. and Gren Group (Qingdao) Co.

2005-2006 New Shipper Review | Weighted-Average Percent Margin
Qingdao Golrich Autoparts Co., Ltd. | 0.00

PRC-Wide Rate | Margin (Percent)
PRC-Wide Rate* | 43.32
* This includes Rotec and Hengtai.

The Department will disclose calculations performed for the final results to the parties within five days of the date of publication of this notice in accordance with 19 CFR 351.224(b).

Assessment Rates

The Department has determined, and U.S. Customs and Border Protection (“CBP”) shall assess, antidumping duties on all appropriate entries covered by these reviews. The Department intends to issue assessment instructions to CBP 15 days after the publication date of the final results of the reviews. In accordance with 19 CFR 351.212(b)(1), for Winhere, Meita, Haimeng, and Golrich, we calculated an exporter/importer (or customer)-specific assessment rate for the merchandise subject to these reviews. Where the respondent has reported reliable entered values, we calculated importer (or customer)-specific ad valorem rates by aggregating the dumping margins calculated for all U.S. sales to each importer (or customer) and dividing this amount by the total entered value of the sales to each importer (or customer). See 19 CFR 351.212(b)(1). Where an importer (or customer)-specific ad valorem rate is greater than de minimis, we will apply the assessment rate to the entered value of the importer's/customer's entries during the review period. See 19 CFR 351.212(b)(1). Where we do not have entered values for all U.S. sales, we calculated a per-unit assessment rate by aggregating the antidumping duties due for all U.S. sales to each importer (or customer) and dividing this amount by the total quantity sold to that importer (or customer). See 19 CFR 351.212(b)(1). To determine whether the duty assessment rates are de minimis, in accordance with the requirement set forth in 19 CFR 351.106(c)(2), we calculated importer (or customer)-specific ad valorem ratios based on the estimated entered value. Where an importer (or customer)-specific ad valorem rate is zero or de minimis, we will instruct CBP to liquidate appropriate entries without regard to antidumping duties. See 19 CFR 351.106(c)(2).

For the companies receiving a separate rate that were not selected for individual review (i.e., CNIM, LABEC, Gren, ZLAP, Hongda, Longkou TLC, ZGOLD, Luqi, Shenyang Yinghao Machinery Co., Jinzheng, SZAP, and Huanri), we will calculate an assessment rate based on the weighted average of the cash deposit rates calculated for the companies selected for individual review excluding any that are zero, de minimis, or based entirely on AFA pursuant to section 735(c)(5)(B) of the Act.

Cash-Deposit Requirements

The following cash deposit rates will be effective upon publication of this notice of final results for all shipments of subject merchandise from Golrich entered or withdrawn from warehouse, for consumption on or after publication date: (1) zero cash deposit will be required for subject merchandise manufactured and exported by Golrich;¹² and (2) for subject merchandise exported by Golrich but not manufactured by Golrich, the cash deposit rate will be the PRC-wide rate of 43.32 percent.

¹² Due to an inadvertent typographical error, we incorrectly stated Golrich's cash deposit rate as “2.15 percent” instead of 0.78 percent in the Preliminary Results. See Preliminary Results, 72 FR at 7416. See also the Memorandum from Ann Fornaro, Trade Compliance Analyst through Blanche Ziv, Program Manager, AD/CVD Operations, Office 8, and Wendy J. Frankel, Office Director, AD/CVD Operations, Office 8, to the File, entitled, “2005-2006 Antidumping Duty Administrative and New Shipper Reviews of Brake Rotors from the People's Republic of China (“PRC”),” dated February 13, 2007.

The following cash deposit requirements will be effective upon publication of this notice of final results for all shipments of brake rotors from the PRC entered, or withdrawn from warehouse, for consumption on or after the publication date, as provided by section 751(a)(1) of the Act: (1) the cash deposit rates for CNIM, LABEC, GREN, Winhere, Haimeng, ZLAP, Hongda, Meita, TLC, ZGOLD, Luqi Yinghao, Longkou Jinzheng, Zhongding and Huanri will be the company-specific rate indicated above (except that if a rate is de minimis, i.e., less than 0.50 percent, zero cash deposit will be required); (2) the cash deposit rate for previously investigated or reviewed PRC and non-PRC exporters who received a separate rate in a prior segment of the proceeding (which were not reviewed in this segment of the proceeding) will continue to be the rate assigned in that segment of the proceeding; (3) the cash deposit rate for all PRC exporters of subject merchandise that have not been found to be entitled to a separate rate (including Rotec and Hengtai) will be the PRC-wide rate of 43.32 percent; and (4) the cash deposit rate for all non-PRC exporters of subject merchandise which have not received their own rate will be the rate applicable to the PRC exporter that supplied that non-PRC exporter. These requirements shall remain in effect until further notice.

Notification to Interested Parties

This notice serves as a final reminder to importers of their responsibility under 19 CFR 351.402(f)(2) to file a certificate regarding the reimbursement of antidumping duties prior to liquidation of the relevant entries during this review period. Pursuant to 19 CFR 351.402(f)(3), failure to comply with this requirement could result in the Secretary's presumption that reimbursement of antidumping duties occurred and the subsequent assessment of doubled antidumping duties.

This notice also serves as a reminder to parties subject to administrative protective order (“APO”) of their responsibility concerning the disposition of proprietary information disclosed under APO, in accordance with 19 CFR 351.305 and as explained in the APO itself. Timely written notification of the return/destruction of APO materials or conversion to judicial protective order is hereby requested. Failure to comply with the regulations and the terms of an APO is a sanctionable violation.

This notice of final results of the administrative and new shipper reviews is issued and published in accordance with sections 751(a)(1) and 777(i)(1) of the Act.

Dated: July 27, 2007.
David M. Spooner,
Assistant Secretary for Import Administration.

Appendix

List of Comments and Issues in the Issues and Decisions Memorandum

Comment 1 Valuation of Pig Iron

Comment 2 Selection of Financial Statements

Comment 3 Financial Ratios: Calculation of Factory Overhead, Selling, General, and Administrative Expenses and Profit

Comment 4 Revocation Eligibility of Non-selected Respondents

Comment 5 Cash Deposit Rates of Non-selected Respondents

Comment 6 Voluntary Responses of Non-selected Respondents

Comment 7 Incorporation of Zeroing for Mandatory Respondents

Comment 8 Incorporation of Zeroing for Non-selected Respondents

Comment 9 Valuation of Cartons

Comment 10 Rescission of Review: Shanxi Zhongding

Comment 11 Separate Rate: Huanri Group

Comment 12 Respondent Selection Methodology

Comment 13 Clerical Error Freight Expenses for Golrich's Buckles and Cartons

Comment 14 Clerical Error Valuation of Steel Strap

[FR Doc. E7-15037 Filed 8-1-07; 8:45 am]

BILLING CODE 3510-DS-S